DEPARTMENT OF HOMELAND SECURITY

Coast Guard

[CGD13-05-012]

Implementation of Sector Seattle

AGENCY: Coast Guard, DHS.

ACTION: Notice of organizational change.

SUMMARY: The Coast Guard announces the stand-up of Sector Seattle. Sector Seattle is an internal reorganization that combines Group Seattle, Vessel Traffic Service Puget Sound and Marine Safety Office Puget Sound into a single command. The Coast Guard has established a continuity of operations whereby all previous practices and procedures will remain in effect until superseded by an authorized Coast Guard official or document.

DATES: This notice is effective May 10, 2005.

ADDRESSES: Documents indicated in this preamble as being available in the docket are part of docket CGD13-05-012 and are available for inspection or copying at Commander (r), Thirteenth Coast Guard District, 915 Second Avenue, Room 3492, Seattle, Washington, 98174-1067 between 8 a.m. and 4 p.m., Monday through Friday, except Federal holidays.

FOR FURTHER INFORMATION CONTACT: Lieutenant Commander Geoffrey Trivers, Thirteenth District Resources Division at (206) 220-7041.

SUPPLEMENTARY INFORMATION:

Discussion of Notice

Sector Seattle is located at 1519 Alaskan Way S., Seattle, WA 98134 and contains a single Command Center. Sector Seattle is composed of a Response Department, Prevention Department, and Logistics Department. Effective May 10, 2005, all existing missions and functions performed by Group Seattle, Vessel Traffic Service Puget Sound and Marine Safety Office Puget Sound will be performed by Sector Seattle. Group Seattle, Vessel Traffic Service Puget Sound and Marine Safety Office Puget Sound will no longer exist as organizational entities.

Sector Seattle is responsible for all Coast Guard Missions in the following zone: the boundary of Sector Seattle, Washington starts at the northeastern most point of Whatcom County and the Canadian border at 49°00′00″ N latitude, 120°51′34″ W longitude; then proceeds along the Canadian border eastward to the Montana-North Dakota boundary; thence southerly along this boundary to the Wyoming State line; thence westerly and southerly along the Montana-Wyoming boundary to the Idaho State line; thence northwesterly along the Montana-Idaho boundary to 46°55′00″ N latitude; thence westerly along 46°55′00″ N latitude to a point at 46°55′00″ N latitude, 123°18′00″ W longitude; thence northerly to a point at 47°58′06″ N latitude, 123°18′00″ W longitude; thence easterly to Double Bluff Point at 47°58′06″ N latitude, 122°32′48″ W longitude; thence northward along the western shore of Whidbey Island to West Point then southeasterly along the eastern shore of Whidbey Island at Strawberry Point 48°17′53″ N latitude, 122°30′21″ W longitude; thence easterly across Skagit Bay along the Skagit Snohomish County line to the southeastern most point of Skagit County; thence along the eastern boundaries of Skagit and Whatcom Counties to the point of origin.

There are no changes to the Puget Sound Marine Inspection Zone and Puget Sound Captain of the Port Zone, which encompasses the combined areas of responsibility of Sector Seattle and Sector/Air Station Port Angeles. The Puget Sound Marine Inspection Zone and Puget Sound Captain of the Port Zone are delineated in 33 CFR § 3.65-10.

The Sector Seattle Commander is vested with all the rights, responsibilities, duties, and authority of a Group Commander; Commanding Officer, Vessel Traffic Service; and Commanding Officer, Marine Safety Office, as provided for in Coast Guard regulations, and is the successor in command to the Commanding Officers of Group Seattle, Vessel Traffic Service Puget Sound and Marine Safety Office Puget Sound. The Sector Seattle Commander is designated: (a) Captain of the Port (COTP) for the Puget Sound COTP zone; (b) Federal Maritime Security Coordinator (FMSC) for the Puget Sound COTP zone; (c) Federal On Scene Coordinator (FOSC) for the Puget Sound COTP zone, consistent with the National Contingency Plan; (d) Officer in Charge of Marine Inspection (OCMI) for the Puget Sound Marine Inspection Zone; and (e) Search and Rescue Mission Coordinator (SMC) for the smaller Sector Seattle area of responsibility, which is described above. The Deputy Sector Commander is designated alternate COTP, FMSC, FOSC, SMC, and Acting OCMI. A continuity of operations order has been issued ensuring that all previous Group Seattle, Vessel Traffic Service Puget Sound and Marine Safety Office Puget Sound practices and procedures will remain in effect until superseded by Commander, Sector Seattle. This continuity of operations order addresses existing COTP regulations, orders, directives, and policies.

The following information is a list of updated command titles, addresses and points of contact to facilitate requests from the public and assist with entry into security or safety zones:

Name: Sector Seattle.

Address: Commander, U.S. Coast Guard Sector Seattle, 1519 Alaskan Way S., Seattle, WA 98134

Contact: General Number, (206) 217-6200; Sector Commander: Captain Danny Ellis; Deputy Sector Commander: Commander Mark Dix Chief, Prevention Department: (206) 217-6180; Chief, Response Department: (206) 217-6070; Chief, Logistics Department: (206) 217-6065; Contingency Planning & Force Readiness Staff: (206) 217-6193 Sector Command Center: (206) 217-6001.

Dated: May 5, 2005.
R.C. Parker,
Captain, U.S. Coast Guard, Acting Commander, Thirteenth Coast Guard District.

[FR Doc. 05-9807 Filed 5-12-05; 2:44 pm]

BILLING CODE 4910-15-P